DEPARTMENT OF DEFENSE

Office of the Secretary

Submission for OMB Review; Comment Request

ACTION: Notice.

The Department of Defense has submitted to OMB for clearance, the following proposal for collection of information under the provisions of the Paperwork Reduction Act (44 U.S.C. chapter 35).

Title, Form Number, and OMB Number: Medical Screening of Military Personnel; DD Forms 2807-1, 2807-2; OMB Number 0704-[To Be Determined].

Type of Request: New Collection.

Number of Respondents: 850,000.

Responses per Respondent: 1.

Annual Responses: 850,000.

Average Burden per Response: 9.6 minutes.

Annual Burden Hours: 135,833.

Needs and Uses: Title 10 USC 504, 505, 507, 532, 978, 1201, 1202, and 4346, require military applicants to meet medical accession standards for enlistment, induction, and appointment to the Armed Forces. This information collection is the basis for determining medical eligibility of applicants based upon their current and past medical history. The General Accounting Office report, “Military Attrition—DoD Could Save Millions by Better Screening Enlisted Personnel,” dated January 1997, instructed the Department of Defense to develop a better method for medically screening military applicants. As a result, the DD Form 2807-1, “Report of Medical History” and the DD Form 2807-2, “Medical Prescreen of Medical History Report,” will be the forms used to collect the necessary data needed from the military applicants to elicit a more accurate picture of their well being and medical history. The information obtained on the DD Form 2807-2 will also identify any medical disqualifying condition(s) prior to the application process and meets the Congressional requirements to obtain the applicant's health care provider and insurance provider.

Affected Public Individuals or Households; Not-For-Profit Institutions.

Frequency: On Occasion.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 22, 2000.
Patricia L. Toppings,
Alternate OSD Federal Register Liaison Officer, Department of Defense.

[FR Doc. 00-13288 Filed 5-25-00; 8:45 am]

BILLING CODE 5001-10-M